DEPARTMENT OF THE INTERIOR

Fish and Wildlife Service

[FWS-R1-ES-2019-N031; FXES11140100000-190-FF01E00000]

Capitol Boulevard Infrastructure Improvements Habitat Conservation Plan and Environmental Assessment for the Olympia Subspecies of the Mazama Pocket Gopher, Thurston County, Washington; Reopening of the Public Comment Period

AGENCY: Fish and Wildlife Service, Interior.

ACTION: Notice of availability; reopening of the public comment period.

SUMMARY: We, the U.S. Fish and Wildlife Service (Service), are announcing a new deadline for submittal of public comments on draft documents prepared in accordance with the National Environmental Policy Act (NEPA) and the Endangered Species Act (ESA). The Service received an application from the City of Tumwater Public Works Department for an incidental take permit pursuant to the ESA. The applicant has requested a permit that would authorize “take” of the threatened Olympia pocket gopher incidental to construction of safety and infrastructure improvements in Thurston County, Washington. The application includes a HCP that describes the actions the applicant will take to minimize and mitigate the impacts of the taking on the covered species. A Federal Register notice of availability for the HCP and the draft environmental assessment (EA) addressing the HCP was published on December 26, 2018. As a result of the U.S. government partial lapse in appropriations, the website cited in the notice was not updated during the entire comment period. In response, we are allowing additional time for public input on these draft documents. If you submitted a comment already, you need not resubmit it.

DATES: To ensure consideration, please submit written comments by May 23, 2019.

ADDRESSES: To request further information or submit written comments, please use one of the following methods:

• Internet: You may view or download copies of the HCP and draft EA and obtain additional information on the internet at http://www.fws.gov/wafwo/.

• Email: wfwocomments@fws.gov. Include “Tumwater Capitol Boulevard Safety and Infrastructure Improvements HCP/EA” in the subject line of the message.

• U.S. Mail: Public Comments Processing, Attn: FWS-R1-ES-2019-N031; U.S. Fish and Wildlife Service; Washington Fish and Wildlife Office; 510 Desmond Drive SE, Suite 102; Lacey, WA 98503.

• In-Person Drop-off, Viewing, or Pickup: Call 360-753-5823 to make an appointment (necessary for viewing or picking up documents only) during regular business hours at the above address.

FOR FURTHER INFORMATION CONTACT: Tim Romanski, Conservation Planning and Hydropower Branch Manager, Washington Fish and Wildlife Office (see ADDRESSES); 360-753-5823 (telephone). If you use a telecommunications device for the deaf, please call the Federal Relay Service at 800-877-8339.

SUPPLEMENTARY INFORMATION: We are announcing a new deadline for submittal of public comments on two draft documents prepared in accordance with the National Environmental Policy Act (NEPA; 42 U.S.C. 4321 et seq.) and section 10(a)(1)(B) of the Endangered Species Act (ESA; 16 U.S.C. 1531 et seq.). A Federal Register notice of availability for a draft environmental assessment (EA) addressing a habitat conservation plan (HCP) being developed by the City of Tumwater Public Works Department in support of its application for an ESA incidental take permit was published on December 26, 2018 (83 FR 66292). Public comments on these documents were due by January 25, 2019. However, due to a partial lapse in Federal budget appropriations, the draft HCP and EA were not made available to the public on the website referenced in the notice of availability. Consequently, we are reopening the public comment period for an additional 15 calendar days. Reopening the comment period will allow the public an opportunity to review the proposed HCP and EA, which are now available on the referenced website, which is http://www.fws.gov/wafwo/. We invite the public to review and comment on both documents. The notice of availability contains additional background information, which is not repeated here.

Authority

We provide this notice in accordance with the requirements of section 10 of the ESA and NEPA and their implementing regulations (50 CFR 17.22 and 40 CFR 1506.6, respectively).

Mary M. Abrams,
Deputy Regional Director, Pacific Region, U.S. Fish and Wildlife Service.

[FR Doc. 2019-09432 Filed 5-7-19; 8:45 am]

BILLING CODE 4333-15-P